DEPARTMENT OF TRANSPORTATION

Federal Aviation Administration

Notice of Availability of the Finding of No Significant Impact/Record of Decision and Adoption of the United States Marine Corps Supplemental Environmental Analysis for the Establishment of the Playas Temporary Military Operating Area

AGENCY: Federal Aviation Administration, Department of Transportation.

ACTION: Notice of availability of Finding of No Significant Impact/Record of Decision.

SUMMARY: The Federal Aviation Administration (FAA) announces its decision to adopt the United States Marine Corps (USMC) Supplemental Environmental Analysis for Temporary Activation of Playas Military Operations Area (SEA) for the establishment of a Temporary Military Operating Area (TMOA) in Playas, New Mexico. This notice announces that based on its independent review and evaluation of the SEA and supporting documents, the FAA is adopting the SEA and issuing a Finding of No Significant Impact (FONSI)/Record of Decision (ROD) for the establishment of the Playas TMOA.

FOR FURTHER INFORMATION CONTACT: Paula Miller, Airspace Policy and Regulations Group, Office of Airspace Services, Federal Aviation Administration, 800 Independence Avenue SW, Washington, DC 20591; telephone: (202) 267-7378.

SUPPLEMENTARY INFORMATION:

Background

The USMC has established the Tactical Recovery of Air Craft and Personnel (TRAP), Training and Readiness Certification Exercise (CERTEX) as a mission essential task performed by assigned and briefed aircrews for the specific purpose of recovery of personnel, equipment and/or aircraft in a tactical situation when survivors and the location have been confirmed. Commonly known as a simulated rescue of a downed pilot, the TRAP CERTEX requires use of aircraft and ground forces in a closely coordinated set of actions to execute the rescue of personnel on the ground. A TMOA is required for military aircraft that support the exercise.

Implementation

After evaluating the aeronautical study and the SEA, the FAA has issued a FONSI/ROD to establish the Playas TMOA for a period not to exceed one day during a six-day window from August 26-31, 2019. The Playas TMOA will be activated by publishing a Notice to Airman (NOTAM) two cycles (56 days) prior to the exercise in the Notices to Airman Publication and by publishing a NOTAM at least four hours in advance.

In accordance with Section 102 of the National Environmental Policy Act of 1969 (“NEPA”), the Council on Environmental Quality's (“CEQ”) regulations implementing NEPA (40 CFR parts 1500-1508), and other applicable authorities, including the FAA Order 1050.1F, Environmental Impacts: Policies and Procedures, paragraph 8-2, and FAA Order JO 7400.2M, “Procedures for Handling Airspace Matters,” paragraph 32-2-3, the FAA has conducted an independent review and evaluation of the USMC's SEA, dated July 2018, and its supporting documents. As a cooperating agency with responsibility for approving special use airspace (SUA) under 49 U.S.C. 40103(b)(3)(A), the FAA provided subject matter expertise and coordinated with the USMC during the environmental review process.

FAA circularized the proposed action from February 23, 2019 through April 1, 2019 in the areas required by JO 7400.2M, which resulted in zero public comments. The FONSI/ROD and SEA are available upon request by contacting Paula Miller at: Airspace Policy and Regulations Group, Office of Airspace Services, Federal Aviation Administration, 800 Independence Avenue SW, Washington, DC 20591; telephone: (202) 267-7378.

Issued in Des Moines, WA, on June 24, 2019.
Shawn Kozica,
Manager, Operations Support Group, Western Service Center.

[FR Doc. 2019-14471 Filed 7-5-19; 8:45 am]

BILLING CODE 4910-13-P